DEPARTMENT OF TRANSPORTATION

Federal Highway Administration

Notice of Final Federal Agency Actions on Proposed Highway in Alaska

AGENCY: Federal Highway Administration (FHWA), DOT.

ACTION: Notice of Limitation on Claims for Judicial Review of Actions by the FHWA and other Federal agencies.

SUMMARY: The FHWA is issuing this notice to announce actions taken by FHWA and other Federal agencies that are final within the meaning of 23 U.S.C. 139(l)(1). The actions relate to a proposed highway reconstruction project: Knik-Goose Bay Road Reconstruction: MP 0.3 to 6.8, Centaur Avenue to Vine Road, in the Matanuska-Susitna Borough, Alaska. Those actions grant licenses, permits, and approvals for the project.

DATES: By this notice, the FHWA is advising the public of final agency actions subject to 23 U.S.C. 139(l)(1). A claim seeking judicial review of the Federal agency actions on the listed highway project will be barred unless the claim is filed on or before March 3, 2016. If the Federal law that authorizes judicial review of a claim provides a time period of less than 150 days for filing such claim, then that shorter time period still applies.

FOR FURTHER INFORMATION CONTACT: Mr. John Lohrey, Statewide Programs Team Leader, FHWA Alaska Division, P.O. Box 21648, Juneau, Alaska 99802-1648; office hours 7 a.m.-4:30 p.m. (AST), phone (907) 586-7428; email John.Lohrey@dot.gov. You may also contact Brian Elliott, DOT&PF Central Region Environmental Manager, Alaska Department of Transportation and Public Facilities, 4111 Aviation Drive, P.O. Box 196900, Anchorage, Alaska 99519-6900; office hours 7:30 a.m.-5 p.m. (AST), phone (907) 269-0539, email Brian.Elliott@alaska.gov.

SUPPLEMENTARY INFORMATION: Notice is hereby given that FHWA has taken final agency actions subject to 23 U.S.C. 139(l)(1) by issuing licenses, permits, and approvals for the following highway reconstruction project in the State of Alaska: Knik-Goose Bay Road (KGB) Reconstruction: MP 0.3 to 6.8, Centaur Avenue to Vine Road. KGB Road will be improved as follows: Six-lanes (three lanes in each direction) from Palmer-Wasilla Highway (PWH) to Mack Road with a raised urban median and four-lanes (two in each direction) from Mack Road to Vine Road, with a non-traversable depressed grass median. The section from Centaur Avenue to PWH would provide space to expand from two to four lanes. The six-lane section (PWH to Mack Road) would consist of three 12-foot wide travel lanes in each direction with six-foot wide outside shoulders with curb and gutter, four-foot wide inside shoulders, and a 30-foot wide raised median. The four-lane section (Mack Road to Vine Road) would consist of two 12-foot wide lanes in each direction with eight-foot outside shoulders, four-foot inside shoulders, and a 30-foot wide depressed grass median. The section from PWH to Mack Road will have continuous illumination and a 45 mile-per-hour speed limit. Turn lanes will be included as appropriate and median breaks will be placed approximately every one-eighth to one-half mile along the corridor as necessary. The existing 10-foot wide separated multi-use pathway along the north side of the road would be reconstructed as necessary. The environmental effects of the KGB Road Reconstruction project are evaluated and described in the Environmental Assessment (EA) pursuant to the National Environmental Policy Act. Key issues identified in the EA include acquisition of right-of-way, traffic noise, access to and from KGB Road, project development is too slow, temporary construction effects, and concerns from the City of Wasilla over the design within city limits. Measures to avoid, minimize, and/or mitigate adverse environmental effects are included in the EA and Finding of No Significant Impact (FONSI).

The actions by the Federal agencies, and the laws under which such actions were taken, are described in the EA for the project, approved on July 13, 2015, in the FONSI issued on August 31, 2015, and in other documents in the FHWA project records. The EA, FONSI, and other project records are available by contacting FHWA or the State of Alaska Department of Transportation & Public Facilities at the addresses provided above. The EA and FONSI documents can be viewed and downloaded from the project Web site at www.knikgoosebayroad.com or viewed at 4111 Aviation Avenue, Anchorage, Alaska 99519.

This notice applies to all Federal agency decisions as of the issuance date of this notice and all laws under which such actions were taken, including but not limited to:

1. General: National Environmental Policy Act (NEPA) (42 U.S.C. 4321-4351 et seq.).

2. Council on Environmental Quality Regulations (40 CFR parts 1500-1508).

3. Federal-Aid Highway Act of 1970, 23 U.S.C. 109.

4. MAP-21, the Moving Ahead for Progress in the 21st Century Act (Pub. L. 112-141).

5. Migratory Bird Treaty Act (16 U.S.C. 703-712)

6. Historic and Cultural Resources: Section 106 of the National Historic Preservation Act of 1966, as amended (16 U.S.C. 470(f) et seq.).

7. Clean Water Act (Section 401) (33 U.S.C. 1251-1377) of 1977 and 1987 (Federal Water Pollution Control Act of 1972).

8. Federal Endangered Species Act of 1973 (16 U.S.C. 1531-1543).

9. Fish and Wildlife Coordination Act of 1934, as amended.

10. Noise Control Act of 1972.

11. Safe Drinking Water Act of 1944, as amended.

12. Executive Order 11990—Protection of Wetlands

13. Executive Order 11988—Floodplain Management

14. Executive Order 13112, Invasive Species

15. Executive Order 12898, Federal Actions to Address Environmental Justice and Low Income Populations

16. Title VI of the Civil Rights Act of 1964, as amended.

17. Department of Transportation Act of 1966, Section 4(f) (49 U.S.C. 303).

18. Anadromous Fish Conservation Act [16 U.S.C. 757(a)-757(g)] Magnuson-Stevenson Fishery Conservation and Management Act 1976 as amended [16 U.S.C. 1801 et seq.].

19. Historic and Cultural Resources: Archeological Resources Protection Act of 1977 [16 U.S.C. 470(aa)-11]; Archeological and Historic Preservation Act [16 U.S.C. 469-469(c)].

20. Social and Economic: Farmland Protection Policy Act (FPPA) [7 U.S.C. 4201-4209].

21. Wetlands and Water Resources: Coastal Zone Management Act [16 U.S.C. 1451-1465]; Land and Water Conservation Fund (LWCF) [16 U.S.C. 4601-4604]; Wild and Scenic Rivers Act [16 U.S.C. 1271-1287].

22. Executive Orders: E.O. 13186 Migratory Birds; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1)

Dated: September 28, 2015.
Sandra A. Garcia-Aline,
Division Administrator, Juneau, Alaska.

[FR Doc. 2015-25229 Filed 10-2-15; 8:45 am]

BILLING CODE 4910-RY-P